FEDERAL COMMUNICATIONS COMMISSION

[CG Docket No. 25-165; DA 25-376; FR ID 293980]

Consumer and Governmental Affairs Bureau Seeks Comment on Termination of Certain Proceedings as Dormant

AGENCY: Federal Communications Commission.

ACTION: Notice of availability; request for comments.

SUMMARY: In this document, the Consumer and Governmental Affairs Bureau (CGB) announces the availability of the FCC Public Notice seeking comment on whether certain docketed Commission proceedings should be terminated as dormant.

DATES: Comments are due on or before July 9, 2025, and reply comments are due on or before July 24, 2025.

FOR FURTHER INFORMATION CONTACT: Zac Champ, Consumer Policy Division, Consumer and Governmental Affairs Bureau, email at zac.champ@fcc.gov or by phone at (202) 418-1495.

SUPPLEMENTARY INFORMATION: This is a summary of CGB's document, CG Docket No. 25-165; DA 25-376, released on May 2, 2025. The full text of this document, including instructions on how to file comments; the spreadsheet associated with document DA 25-376 listing the proceedings proposed for termination; and copies of any subsequently filed documents in this matter will be available for public inspection and copying via ECFS at: https://www.fcc.gov/ecfs/. Document DA 25-376 and the spreadsheet associated with document DA 25-376 listing the proceedings proposed for termination can also be downloaded in Word or Portable Document Format (PDF) at: https://www.fcc.gov/document/fcc-looks-clear-backlog-inactive-proceedings-0.

To request this document in accessible formats for people with disabilities (e.g., Braille, large print, electronic files, audio format) or to request reasonable accommodations (e.g., accessible format documents, sign language interpreters, CART), send an email to fcc504@fcc.gov or call the FCC's Consumer and Governmental Affairs Bureau at (202) 418-0530.

Federal Communications Commission.
Robert Garza,
Legal Advisor, Consumer and Governmental Affairs Bureau.

[FR Doc. 2025-10395 Filed 6-6-25; 8:45 am]

BILLING CODE 6712-01-P